DEPARTMENT OF AGRICULTURE

Animal and Plant Health Inspection Service

[Docket No. APHIS-2023-0058]

Veterinary Services User Fees

AGENCY: Animal and Plant Health Inspection Service, U.S. Department of Agriculture (USDA).

ACTION: Notice.

SUMMARY: The Animal and Plant Health Inspection Service (APHIS) is announcing its proposed adjusted user fee rates for the costs of providing certain goods and services, including veterinary diagnostic goods and services and veterinary services for imports and exports of live animals and animal products. This includes the basis for any proposed adjusted fee change. This action is necessary because the regulations provide that APHIS will issue such a notice. This action would ensure that the fees charged more closely align with the costs of providing the goods or services.

DATES: We will consider all comments we receive on or before December 9, 2024.

ADDRESSES: You may submit comments by either of the following methods:

• Federal eRulemaking Portal: Go to www.regulations.gov. Enter APHIS-2023-0058 in the Search field. Select the Documents tab, then select the Comment button in the list of documents.

• Postal Mail/Commercial Delivery: Send your comment to Docket No. APHIS-2023-0058, Regulatory Analysis and Development, PPD, APHIS, Station 2C-10.16, Unit 25, 4700 River Road, Riverdale, MD 20737-1238.

Any comments we receive on this docket may be viewed at regulations.gov or in our reading room which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the user fee activities covered by this notice, contact Ms. Lisa Slimmer, User Fee Financial Team Manager, Veterinary Services Money Management, 920 Main Campus Drive, Raleigh, NC 27606; (919) 414-7205.

SUPPLEMENTARY INFORMATION:

Background

The regulations in 9 CFR part 130 (referred to below as the regulations or the user fee regulations), cover user fees to reimburse the U.S. Department of Agriculture's (USDA's) Animal and Plant Health Inspection Service (APHIS) for the costs of providing veterinary diagnostic services and import/export related services for live animals, animal products and byproducts, poultry, birds, germplasm, organisms, and vectors. These user fees are authorized by section 2509(c) of the Food, Agriculture, Conservation, and Trade Act (FACT Act) of 1990, as amended (21 U.S.C. 136a(c)), which provides that the Secretary of Agriculture may, among other things, prescribe regulations and collect fees to recover the costs of providing import/export related services for animals, animal products and byproducts, birds, germplasm, organisms, and vectors, and for veterinary diagnostics relating to the control and eradication of communicable diseases of livestock or poultry within the United States.

Since fiscal year 1992, APHIS has received no directly appropriated funds to cover the cost of certain veterinary diagnostics or to provide import/export related services for animals, animal products and byproducts, birds, germplasm, organisms, and vectors. Our ability to provide these services depends on user fees. User fees are associated with providing services for live animal, animal product, bird, and germplasm imports and exports and the user fees fund, among other things, quarantine services, the processing of import permit applications, port of entry inspections, inspections and approvals of import/export facilities and establishments, endorsements of export certificates, and services related to emergency situations that arise during the export or import process.

On August 1, 2023, APHIS published a final rule ¹ in the Federal Register that revised the regulations (88 FR 49994-50002, Docket No. APHIS-2021-0052). This rule removed tables providing the individual fees from the regulations and instead indicated that they are posted on the following website: www.aphis.usda.gov/business-services/vs-fees. It also provided that, on an annual basis, APHIS would propose changes to the fee rates through publication of a notice in the Federal Register.

¹ To view the proposed rule, final rule, and the comments we received, go to www.regulations.gov. Enter APHIS-2021-0052 in the Search field.

This is the first such notice. Below, we provide a general overview of the factors that led most of our proposed adjusted fees to increase, then provide a summary of the cost components for our fees, as set forth in the revised regulations. In this discussion, we provide three examples to demonstrate the fee calculations. Then, we proceed table by table, sequentially, for each table set forth in the previous regulations. In each table, the first column sets forth the current fee and the second column sets forth the proposed adjusted fee.

Overview of Factors Leading to Proposed Adjusted Fee Increases

As we forecasted in the proposed rule (see footnote 1) on which the August 2023 final rule was based, most rates will change and increase. The increase in fees within the tables throughout this notice are based on several factors including: Time, inflation, increase in subject matter expert workload, a shift in the level of work complexity, and trade and the general economy. As we stated in that same proposed rule, this is primarily because the current fees were established in 2011 and 2012 using the best available 2009 data. The actual costs of providing the services have increased in the intervening decade. This increase in costs pertains not only to direct costs, but also to indirect costs associated with the services. As noted in our proposed rule, the 2011 and 2012 fees did not anticipate the high level of information technology investment needed to meet customer demand to conduct business with APHIS' Veterinary Services (VS). Additionally, the capital required to keep our facilities operational is subject to the same inflationary pressures as the general economy.

Another factor impacting fee classes is an increased level of effort and expertise associated with providing certain services. Changing trade requirements in the intervening years have resulted in additional complexities in the work in this field, such as the issuance of export health certificates. For example, many trading partners (importing countries) have historically accepted VS forms with minimal health information. These VS forms contained all health information on one page. Also, the use of forms allowed information to be presented in a standardized way, making review of certificates a more consistent process across importing countries and species. Over the past years, many countries have changed their import requirements and now require country- and species-specific health certificates for the export of live animals from the United States. These health certificates vary widely in terms of information they contain, the requirements they cite, and the type of certificate that can be used. Most are two or more pages long, and all information must be reviewed and verified for each animal or shipment being exported. This has increased the level of effort needed to complete the work. It also means that the subject matter expertise needed to complete the work is much greater now than previously as a result of these growing complexities.

Finally, as we also noted in the proposed rule, on which the August 2023 final rule was based, the Office of Management and Budget circular A-25 requires user fees to be sufficient to recover the full cost to the Federal Government of providing the service. Calculations include imputed costs; these imputed costs are outside of APHIS' control. Imputed costs are the costs incurred by the U.S. Department of Labor, U.S. Office of Personnel Management, the U.S. Department of State (State Department), and the Department of Justice in order to provide retirement, health, life insurance, worker's compensation, judgment fund, and other related benefits to the Agency and employees who provide the services covered by the fees. These costs have gone up, and, as noted above, must be factored into the fee setting.

Fee Amount Calculations

We have summarized the fee amount calculation formulas below. In addition to the formulas, we have provided three examples to demonstrate application of the formulas.

Paragraph (a) of § 130.2 of the revised regulations provides that, with limited exceptions, APHIS will calculate user fees as follows:

• APHIS will prorate the total inspection, certification, or laboratory service program personnel direct pay (on board and in hiring process including benefits) for the previous fiscal year to each fee based upon the direct time factor percentage of employee's average time to perform and complete each fee code process and then multiply by the next year's percentage of cost-of-living increase.

• APHIS will prorate total direct operating costs for the previous fiscal year based upon the direct time factor percentage of employee's average time to perform and complete each fee code process to each fee and then multiply by the anticipated percentage of inflation for the next year.

• APHIS will add estimates for Program, Agency, and Department support costs, imputed costs, and reserves by applying a percentage based on most recent information to the sum of the direct pay plus direct operating costs.

• APHIS will round calculated fees up to the next $0.25 for all fees less than $10 or round up to the nearest dollar for all fees greater than $10.

Additional discussion on APHIS' calculations of the proposed adjusted fees in this notice is below:

The prior year (2023) costs are obtained from the official financial systems of record. As part of our accounting procedures, we maintain separate accounting hierarchies to record costs that can be charged to each program (e.g., Import Export and Veterinary Diagnostics). Costs are those things on which an organization spends its budget, such as salaries and benefits for employees, rent, equipment, travel, and so on. We are required to capture the full cost of the services that we provide.

As discussed in our August 1, 2023, final rule, Import Export and Veterinary Diagnostics projected program costs will include:

• Direct pay (including benefits). The wage labor costs (on board and in the hiring process), including benefits, for employees who specifically support and provide the required service.

• Direct operating costs. Costs attributed to travel and transportation for personnel; materials, supplies, and other necessary items; training; general office supplies; rent; facility maintenance; equipment purchase and maintenance; utilities; contractual services; and information system operations, maintenance, and development.

• Consumer price index. The measure of the average change over time in prices paid by urban consumers for a market basket of consumer goods and services, as determined by the Bureau of Labor Statistics annually.

• Cost of living. The adjusted annual rate used to determine the cost of maintaining a certain standard of living based on the economic assumptions in the Office of Management and Budget's Presidential Economic Assumptions.

• Imputed costs. Office of Workers' Compensation costs from the Department of Labor; costs of employee leave earned in a prior fiscal year and used in the current fiscal year; Office of Personnel Management and Department of State (State Department) costs to provide retirement, health, and life insurance benefits to employees; unemployment compensation costs; and Department of Justice judgment fund costs.

• Program, Agency, and Department support. Indirect or direct costs of the program, including supporting services provided to the industry.

• Reserve. Funds above expected obligations that are required to effectively manage uncertainties in demand and timing to ensure sufficient operating funds in cases of bad debt, customer insolvency, fluctuations in activity volumes, information technology development costs, cash flow, facilities capital needs, or fluctuations in activity volumes caused by unforeseen global and national events.

Reserve

As discussed in our October 3, 2022, proposed rule, and reiterated in the August 1, 2023, final rule, the reserve would be calculated each year based on the forecasted needs identified during the annual fee setting session by estimating 25 percent or 90 days of annual expenditures adding a prorated component of forecasted IT and facilities capital needs and investments, and offsetting that sum by the existing amount in the reserve.

Therefore, we estimate the reserve component costs annually as follows:

At the time each year that we calculate our proposed user fee rates, we estimate cash flow needs by estimating 25 percent or 90 days of annual expenditures, whichever is greater.

We forecast information technology and facilities capital needs and investments, including any major purchases or improvement of equipment or systems, for the next 5 fiscal years, and assign an estimated date by year at which we anticipate these costs to be actualized. Based on the expected time of cost actualization within that 5-year forecast, we will add a component of that cost to the above cash flow needs. Finally, this sum of expenses calculated will be offset by the existing amount in the reserve, and the difference to be collected is calculated for each user fee.

Reserve levels will be set at a level meant to reflect the forecasted needs, as articulated above, but are monitored and adjusted annually as needs or costs change. We intend to closely monitor the operations and operating environment including demand, costs changes, administrative policies, investment needs, and the economic environment closely and propose adjustments, as needed, in our fees annually to ensure an adequate reserve balance to ensure cash flow and capital planning needs are met.

Capital costs included in the reserve calculation are items such as facility design, development and maintenance costs, equipment, and other items as needed to ensure facilities and equipment are kept at acceptable standards for both Import Export and Veterinary Diagnostics. Plans are reviewed annually and forecasted for 5 years as costs are gathered for our annual update. Facilities, equipment, and other shared items that may house or support both user fee and non-user fee functions are shared proportionately. The cost model only includes those costs attributable to the user fee services. The total capital costs included in this update are $2,228,707.50 for Import Export and $1,350,000.00 for Veterinary Diagnostics to ensure funding is available as costs are actualized.

Information technology costs included in the reserve calculation are also projected for the following 5 years and include items such as systems modernization, particularly for trade modernization systems, billing system replacement and other user fee related operational systems enhancements or maintenance. Technology costs that may support both user fee and non-user fee functions are shared proportionately based upon the most appropriate driver of the costs. The total information technology costs included in this update is $6,461,071.38 for Import Export to ensure funding is available as costs are actualized. There are no planned information technology development or maintenance user fee expenses for Veterinary Diagnostics at this time.

The reserve percentage to be applied to recover the costs derived is expressed as a percentage (total reserve target divided by the total of prior year expenses including vacancies plus cost of living and consumer price index costs). To allocate the identified reserve costs per service, a rate of 25.69 percent and 18.32 percent was derived for Import Export and Veterinary Diagnostics respectively.

Then, to ensure full cost recovery, we identified and added an appropriate amount of imputed costs. These are costs borne by other Federal agencies (such as the U.S. Treasury and the Office of Personnel Management) in support of the user fee programs. We used percentage of full time equivalent as the basis to identify the portion of these costs to attribute to the Import Export and Veterinary Diagnostics programs.

General Formula

The Veterinary Services User Fee cost model structure is developed in Microsoft Excel using cost allocation by direct time factors to each service provided. To determine the current costs for the general formula, of Import Export and Veterinary Diagnostic services, we first calculated the actual and projected costs of the current programs using the models. Tables A through D below set out examples of the calculations for certain fees. The costs for the general formula model are shown in table A.

Table A—General Formula Model Projected Costs
Cost category | Import export | Veterinary diagnostics
Fiscal Year 2023 Actual Costs by Category With Future Projected Costs by Program for General Fee Formula
(rounded to two decimal points)
Salary and Benefits Prior Year (PY) 2023 | $28,624,842.48 | $4,214,611.00
Operating Costs PY 2023 | 6,476,340.71 | 2,525,556.00
Future projected costs:
Staffing and benefits full year | 5,183,454.49 | 604,664.81
Cost of Living adjustment (COLA) (5.2% multiplied by the sum of 2023 salary and benefits and future salary and benefits) | 1,758,031.44 | 250,602.37
Consumer price index (CPI) (3.7% multiplied by the sum of 2023 operating costs) | 239,624.61 | 93,445.58
Reserve shared costs (estimated target to collect expressed as a percentage of prior year expenses, COLA and CPI is 25.69% and 18.32% for import export and veterinary diagnostics respectively) | 10,862,184.92 | 1,408,757.00
Imputed Costs (estimated target to collect expressed as a percentage of prior year expenses salary and benefits, future staffing and COLA is 25.69% and 18.32% per activity for import export and veterinary diagnostics respectively) | 3,427,788.13 | 580,751.96
Sub-total Expenses | 56,572,266.78 | 9,678,388.72
Program, Agency, Department Support (19% of sub-total expenses) | 10,748,730.69 | 1,838,893.86
Total Projected Program Costs | 67,320,997.47 | 11,517,282.58

The differing proposed adjusted fees are the result of the average level of effort identified to complete each service, for which a user fee is assessed, referred to as the direct time factor in minutes. To determine the direct time factor in minutes for each service, we conducted labor surveys for each of the organizations providing the services. The level of effort is a good indicator of resources consumed. Two examples of the general formula are shown in table B.

Table B—General Formula Fee Calculation
Step | Import export | Veterinary diagnostics
Example: Service provided | Slaughter Animals (except poultry and including ruminants) moving to Canada Or Mexico | Complement Fixation Test.¹
1. Direct Time Factor per service (in minutes) | 35.75 | 9.50.
2. Total Prior Year Volume for service | 1,727.00 | 55,555.00.
3. Annual Direct minutes for service (total prior year volume, step 2, multiplied by direct time factor per service step 1) | 61,740.25 | 527,768.00.
4. Total Direct Time Factor minutes per program | 34,491,538.00 | 2,143,306.00.
5. Percent of Direct Labor Minutes (Annual Direct Minutes, step 3, for service divided by total direct time factor minutes, step 4) | 0.18% | 24.62%.
6. Total Direct Labor Costs (includes salary and benefits and future staffing and benefits) for service (Percent of direct labor minutes, step 5, multiplied by total labor costs of salary and benefits PY 2023 plus Future staffing and benefits (Import Export is $28,624,842,48 plus 5,183,454.49 and Veterinary Diagnostics is 4,214,611 plus $604,664.81) | $60,517.24 | $1,186,698.48.
7. Per share labor for service (total direct labor costs step 7, divided by the prior year volume for the service, step 2) | $35.04 | $21.36.
8. Cost of living adjustment (5.2% multiplied by the Per Share Labor for service, step 7) | $1.82 | $1.11.
9. Total Direct Labor costs per service (step 7 plus step 8) | $36.86 | $22.47.
10. Total Direct Operating Costs (percent of direct labor costs step 5 multiplied by total operating costs for Import Export of $6,476,340.71 and for Veterinary Diagnostics of $2,525,556.00) | $11,592.72 | $621,892.91.
11. Per share operating costs for service (total direct operating costs step 10 divided by prior year volume step 2) | $6.71 | $11.19.
12. Per Share consumer price index (CPI) for service (2023 CPI of 3.7% multiplied by the Per Share Operating Costs for service, step 11) | $0.25 | $0.41.
13. Total Operating costs per service (Total operating costs per service, step 11 plus Per share CPI for service, step 12) | $6.96 | $11.61.
14. Sub-Total of total operating and labor costs per service, step 9, plus step 13 | $43.83 | $34.08.
15. Reserve shared costs (25.69% and 18.32% multiplied by the Sub-Total in step 14 for Import Export and Veterinary Diagnostics respectively) | $11.26 | $6.24.
16. Imputed shared costs (9.638% and 11.45% multiplied by the Sub-Total in step 9 for Import Export and Veterinary Diagnostics respectively) | $3.55 | $2.57.
17. Sub-Total of Direct Labor, Direct Op Costs with imputed and reserve shared costs (step 9 plus step 13 plus step 15 plus step 16) | $58.64 | $42.89.
18. Program, Agency & Departmental support shared costs (19% of Sub-total of Direct Labor, Direct Op Costs with imputed and reserve shared costs step 17) | $11.14 | $8.15.
19. Total of Direct Labor, Operating Costs with imputed, reserve and program, agency & department support shared costs (step 17 plus step 18) | $69.78 | $51.04.
20. New fee calculated is above $10 so it is rounded to the next whole dollar | $70.00 | $52.00.²
¹ The complement fixation test (CFT) is a classical immunological assay used to detect the presence of specific antibodies or antigens in a serum.
² The table is rounded to two decimal or percentage places.

Alternate Fee Structure

Paragraph (b) of § 130.2 provides an alternate fee structure in instances when there is no identifiable volume in the previous year, when the fee is rarely charged, or when APHIS cannot readily identify level of effort. In such instances, we will calculate the fee based on the last available historic data, including inflation, program, agency, department and support costs, imputed costs, and reserve.

Examples of this calculation are the fee for the housing, care, feed, and handling of miniature horses while in import-related quarantine and for Latex Agglutination.

There was no identifiable volume for the prior year and no identifiable level of effort upon which to base salary and benefits expenses for future years. As table C indicates below, we begin with the current fee. To that we add the intervening inflation of 36 percent representing inflation from 2012 to 2023 to arrive at a new base fee. To ensure full costs, imputed, reserve, and program, agency and department support costs are added as a percentage of the new base fee. The components are summed to arrive at a final fee. The final fee is then rounded to the next whole dollar if it is greater than $10. This is demonstrated in table C.

Table C—Import Export and Veterinary Diagnostics Alternate Fee Structure Calculation
Service description | Import export: Miniature horses/head/day | Veterinary diagnostics: Latex agglutination
Current Fee | $97.00 | $18.00
Inflation 2012-2023 (36% of current fee) | 34.92 | 6.48
New base fee (current fee plus inflation adjustment) | 131.92 | 24.48
Total Imputed costs shared per service (9.64% & 11.45% percent multiplied by the new base fee respectively for Import Export and Veterinary Diagnostics) | 12.71 | 2.80
Reserve costs shared per service (25.69% & 18.32% percent multiplied by the new base fee respectively for Import Export and Veterinary Diagnostics) | 33.89 | 4.48
Program, Agency & Department support costs shared per service (19% of new base fee) | 25.06 | 4.65
Sub-Total new base fee plus imputed, plus reserve and plus program, agency & departmental costs shared per service | 203.59 | 36.42
New fee is above $10 so it is rounded to the next whole dollar | 204.00 | 37.00

Animal Import Center Space

Paragraph (c) of § 130.2 provides that APHIS will calculate fees for exclusive use of space in animal import centers, as follows:

• APHIS will calculate fees by using direct employee average time (with benefits) and adding a prorated portion of currently identifiable expenses (facilities, rent, support cost, and admin support costs), program, agency, department and support expenses, imputed costs, and reserve.

• APHIS will combine the costs to determine the monthly cost of providing the service at a single location within the animal import center.

• APHIS will calculate the costs of the other locations within the animal import center based on the square footage of the location.

The typical staffing for barn services includes maintenance workers, facility supervisor, animal health technicians (AHT), supervisory AHT, and Veterinary Medical Officers (VMO). Time surveys and follow up discussions quantified level of effort providing services at the barn from which direct labor costs were calculated. Administrative personnel costs supporting all animal import center services (such as Veterinarian in charge, administrative office, program assistant and other AHT) were allocated to the barn costs based upon the percentage full time equivalent for the animal import center. The administrative personnel provide oversight and support to the animal import center including the barn needs. Operating costs required for barn operation and support were analyzed over a 2-year period of time to ensure all costs were gathered as some costs may be biennial. Costs such as rent, utilities, travel, equipment, and supplies or other such costs which may support both user fee and non-user fee functions are shared proportionately by percentage of full time equivalent or square footage as appropriate. The cost model barn rate calculation only includes those costs attributable to the user fee services provided. Reserve, imputed, and program, agency and departmental shared costs were added to the base.

Once all monthly costs are derived for Newburg (barn A), they are further broken down to cost per square foot for the square footage of barn A. This cost per square foot of barn A is then applied to the appropriate square footage of barns B and C to arrive at their monthly fee. An example of Newburg Barn A costs is shown in table D below.

Table D—Newburg Barn A Rates
Service description | Barn A rates per month
Direct labor costs | $30,032.23
Operating costs | 33,792.31
Total Direct Costs | 63,824.54
Total Imputed costs shared per activity (9.637% of direct labor costs) | 2,894.21
Total Reserve cost shared (25.69% percent of total direct costs) | 16,396.52
Total Program, Agency & Department support costs shared (19% of total direct costs) | 12,126.66
Allocated Administrative support costs | 9,126.72
Total Monthly costs for Barn A, Newburg (total direct costs plus imputed, plus reserve, plus program, agency and department and plus allocated administrative costs) | 104,368.67
New fee calculated is above 10 so it is rounded to the next whole dollar | 104,369.00

Hourly Rate and Minimum User Fees (Import Export)

Finally, paragraph (d) of § 130.2 indicates that APHIS will charge an hourly rate-based user fee for services listed in § 130.4 of the revised regulations. Examples of services charged the hourly rate include obtaining samples required to be tested, either to obtain import permits or to ensure compliance with import permits, and inspecting means of conveyance used to export animals or birds.

As noted above, APHIS charges an hourly rate-based user fee for certain import- or export-related veterinary services. These services are currently listed in § 130.4(a)(1) through (18) of the regulations, except those services covered by flat rate user fees elsewhere in part 130. Prior to the August 2023 final rule, these fees were set forth in § 130.30 of the regulations. Tables 1 through 25 below set out the current and proposed adjusted fees for hourly rates and services provided. The current hourly fee as of October 1, 2012, and proposed hourly fee rates are listed in table 1 below.

Table 1—Hourly Rate and Minimum User Fees Import Export
Hourly rate | Current | Proposed adjusted fees
Per hour | $132.00 | $166.00
Per quarter hour | 33.00 | 42.00
Per service minimum fee | 40.00 | 51.00

Overtime Hourly Rate

Paragraph (b) of § 130.4 currently provides there is an additional amount charged hourly to perform the services listed in the section on a Sunday, on a holiday, or at any time outside the normal tour of duty for the employee providing the service. Prior to the August 2023 final rule, this overtime hourly rate had been set forth in § 130.30 of the regulations. The current hourly fee as of October 1, 2012, and proposed overtime hourly rates are listed in table 2 below.

Table 2—Overtime Hourly Rate
Overtime rates (outside the employee's normal tour of duty) | Current | Proposed fee
Premium hourly rate Monday through Saturday and holidays
Per hour | $156.00 | $196.00
Per quarter hour | 39.00 | 49.00
Premium hourly rate for Sundays
Per hour | 176.00 | 221.00
Per quarter hour | 44.00 | 56.00

User Fees

APHIS charges user fees for services rendered by an APHIS representative for each animal or bird receiving standard housing, care, feed, and handling while quarantined in an APHIS-owned or operated animal import center or quarantine facility. Prior to the August 2023 final rule, these fees were set forth in § 130.2 of the regulations. The current fee as of October 1, 2012, and proposed fee rates are listed in table 3 below. Each user fee listed in the table is assessed per animal or bird quarantined by APHIS.

Table 3—Animal or Bird Daily User Fee
Animal or bird | Current fee | Proposed adjusted fee
Birds (excluding ratites and pet birds imported in accordance with part 93 of this subchapter)
0-250 grams | $3.00 | $5.00
251-1,000 grams | 9.25 | 10.00
Over 1,000 grams | 21.00 | 30.00
Domestic or zoo animals (except equines, birds, and poultry)
Bison, bulls, camels, cattle, or zoo animals | 162.00 | 341.00
All others, including, but not limited to, alpacas, llamas, goats, sheep, and swine | 43.00 | 69.00
Equines (including zoo equines, but excluding miniature horses)
1st through 3rd day (fee per day) | 429.00 | 586.00
4th through 7th day (fee per day) | 310.00 | 196.00
8th and subsequent days (fee per day) | 264.00 | 196.00
Miniature horses | 97.00 | 204.00
Poultry (including zoo poultry)
Doves, pigeons, quail | 5.75 | 9.25
Chickens, ducks, grouse, guinea fowl, partridge, pea fowl, pheasants | 10.00 | 16.00
Large poultry and large waterfowl, including, but not limited to, gamecocks, geese, swans, and turkeys | 24.00 | 51.00
Ratites
Chicks (less than 3 months old) | 15.00 | 32.00
Juveniles (3 months through 10 months old) | 22.00 | 47.00
Adults (11 months old or older) | 43.00 | 91.00

APHIS also charges user fees for birds or poultry, including zoo birds or poultry, receiving nonstandard housing, care, or handling to meet special requirements while quarantined in an APHIS-owned or operated Animal Import Center or quarantine facility. Prior to the August 2023 final rule, these fees were also set forth in § 130.2 of the regulations. The current fee as of October 1, 2012, and proposed adjusted fees are listed in table 4 below. The user fees listed in table 4 are assessed for each bird or poultry quarantined by APHIS. Special requirements may be requested by the importer or required by an APHIS representative. Certain conditions or traits, such as pregnancy or aggression, may necessitate special requirements for certain birds or poultry.

Table 4—Bird or Poultry (Nonstandard Housing, Care, or Handling) Daily User Fee
Bird weight | Current fee | Proposed adjusted fee
Birds 0-250 grams and doves, pigeons and quail | $9.25 | $14.00
Birds 251-1,000 grams and poultry such as chickens, ducks, grouse, guinea fowl, partridge, pea fowl, and pheasants | 21.00 | 28.00
Birds over 1,000 grams and large poultry and large waterfowl, including, but not limited to gamecocks, geese, swans, and turkeys | 40.00 | 51.00

User Fees for Exclusive Use of Space at APHIS Animal Import Centers

An importer may request to exclusively occupy a space at an APHIS animal import center. If this occurs, APHIS charges for the use of the space. Prior to the August 2023 final rule, these fees were set forth in § 130.3 of the regulations. The current fee as of October 1, 2012, and proposed user fee for spaces at APHIS animal import centers are listed in table 5 below.

Table 5—Animal Import Center Monthly User Fee
Newburgh, NY ¹ | Current fee | Proposed adjusted fee
Space A 5,396 ft² (503.1 m²) | $94,249.00 | $104,369.00
Space B 8,903 ft² (827.1 m²) | 155,504.00 | 172,201.00
Space C 905 ft² (84.1 m²) | 15,807.00 | 17,504.00
¹Square foot (f²); square meter (m²).

User Fees for Processing Import Permit Applications

APHIS charges user fees for any service rendered by an APHIS representative for processing applications for permits to import certain animals and animal products (using VS forms 16-3 and 17-129). Prior to the August 2023 final rule, these fees were set forth in § 130.4 of the regulations. The current fees as of October 1, 2012, and proposed adjusted fees are listed in table 6 below.

Table 6—User Fees for Processing Import Permit Applications
Service | Unit | Current fee | Proposed adjusted fee
Import compliance assistance
Simple (4 hours or less) | Per shipment | $111.00 | $249.00
Complicated (more than 4 hours) | Per shipment | 565.00 | 762.00
Processing an application for a permit to import live animals, animal products or by products, organisms, vectors, or germ plasm (embryos or semen) or to transport organisms or vectors ¹
Initial permit | Per application | 150.00 | 303.00
Amended permit | Per amended application | 75.00 | 176.00
Renewed permit ² | Per application | 97.00 | 176.00
Processing an application for a permit to import fetal bovine serum when facility inspection is required | Per application | 512.00 | 1,075.00
¹ Using Veterinary Services Form 16-3, “Application for Permit to Import or Transport Controlled Material or Organisms or Vectors,” or Veterinary Services Form 17-129, “Application for Import or In Transit Permit (Animals, Animal Semen, Animal Embryos, Birds, Poultry, or Hatching Eggs).”
² Permits to import germ plasm and live animals are not renewable.

User Fees for Inspection of Live Animals at Land Border Ports Along the United States-Mexico Border

APHIS charges user fees for any service rendered by an APHIS representative for live animals presented for importation into or entry into the United States through a land border port along the United States-Mexico border. Prior to the August 2023 final rule, these fees were set forth in § 130.6 of the regulations. The current fees as of October 1, 2012, and proposed adjusted fees are listed in table 7 below.

Table 7—User Fees for Inspection of Live Animals at Land Border Ports Along the United States-Mexico Border
Type of live animal | Current per head user fee | Proposed adjusted per head user fee
Any ruminants (including breeder ruminants) not covered below | $14.00 | $11.00
Feeder | 4.00 | 8.25
Horses, other than slaughter | 70.00 | 288.00
In-bond or in-transit | 9.25 | 20.00
Slaughter | 6.00 | 13.00

User Fees for Import or Entry Services for Live Animals at Land Border Ports Along the United States-Canada Border

APHIS charges user fees for any service rendered by an APHIS representative for live animals presented for importation into or entry into the United States through a land border port along the United States-Canada border. Prior to the August 2023 final rule, these fees were set forth in § 130.7 of the regulations. The current fees as of October 1, 2012, and proposed adjusted fees are listed in table 8 below.

Table 8—User Fees for Import or Entry Services for Live Animals at Land Border Ports Along the United States-Canada Border
Type of live animal | Unit | Current fee | Proposed adjusted fee
Animals being imported into the United States: Breeding animals (Grade animals, except horses)
Sheep and goats | Per head | $1.00 | $2.25
Swine | Per head | 1.25 | 2.00
All others | Per head | 5.25 | 17.00
Feeder animals
Cattle (not including calves) | Per head | 2.50 | 2.75
Sheep and calves | Per head | 1.00 | 2.25
Swine | Per head | 0.50 | 0.50
Horses (including registered horses) other than slaughter and in-transit | Per head | 46.00 | 49.00
Poultry (including eggs), imported for any purpose | Per load | 80.00 | 88.00
Registered animals, all types (except horses) | Per head | 9.75 | 11.00
Slaughter animals, all types (except poultry) | Per load | 40.00 | 79.00
Animals transiting ¹ the United States
Cattle | Per head | 2.50 | 11.00
Sheep and goats | Per head | 0.50 | 1.25
Swine | Per head | 0.50 | 1.75
Horses and all other animals | Per head | 11.00 | 118.00
¹ The user fee in this section will be charged for in-transit authorizations at the port where the authorization services are performed.

User Fees for Other Services

APHIS charges user fees for services rendered by an APHIS representative for certain other services that are not specifically addressed elsewhere in the regulations. Prior to the August 2023 final rule, these fees were set forth in § 130.8 of the regulations. The current user fees as of October 1, 2012, and proposed adjusted fees are listed in in table 9 below.

Table 9—User Fees for Other Services
Service | Unit | Current fee | Proposed adjusted fee
Germ plasm being exported, Embryo ¹
Up to 5 donor pairs | Per certificate | $132.00 | $163.00
Each additional group of donor pairs, up to 5 pairs per group on the same certificate | Per group of donor pairs | 59.00 | 100.00
Germ plasm being exported, Semen ¹
Semen | Per certificate | 81.00 | 171.00
Release from export agricultural hold
Simple (2 hours or less) | Per release | 111.00 | 118.00
Complicated (more than 2 hours) | Per release | 286.00 | 601.00
¹ This user fee includes a single inspection and resealing of the container at the APHIS employee's regular tour of duty station or at a limited port. For each subsequent inspection and resealing required, the hourly user fee in § 130.4 will apply.

User Fees for Pet Birds

APHIS charges user fees for pet birds of U.S. origin returning to the United States, except pet birds of U.S. origin returning from Canada to home quarantine. Prior to the August 2023 final rule, these fees were set forth in § 130.10 of the regulations. The current fees as of October 1, 2012, and proposed adjusted fees are listed in table 10 below.

Table 10—User Fees for Pet Birds
Service | Current per lot fee | Proposed adjusted fee
Pet birds which have been out of the United States 60 days or less | $172.00 | $362.00
Pet birds which have been out of the United States more than 60 days | 409.00 | 938.00

Pet Birds Quarantined in an Animal Import Center or Other APHIS-Owned or Supervised Quarantine Facility (Fee Includes Standard Care, Feed, and Handling)

APHIS charges user fees for each pet bird quarantined in an animal import center or other APHIS-owned or supervised quarantine facility. The current user fees as of October 1, 2012, and proposed adjusted fees are listed in table 11 below. These user fees include standard care, feed, and handling. Based on the information provided to APHIS personnel, APHIS personnel at the Animal Import Center or other APHIS-owned or -supervised quarantine facility will determine the appropriate number of birds that should be housed per isolette. Additionally, if the importer requests additional services, then the user fees for those services will be calculated at the hourly rate user fee listed pursuant to § 130.4, for each employee required to perform the service.

Table 11—Pet Birds Quarantined in an Animal Import Center or Other APHIS-Owned or Supervised Quarantine Facility
Number of birds in isolette | Current fee | Proposed adjusted fee
1 | $15.00 | $22.00
2 | 18.00 | 24.00
3 | 21.00 | 26.00
4 | 24.00 | 30.00
5 or more | 29.00 | 32.00

User Fees for Inspecting and Approving Import/Export Facilities and Establishments

APHIS charges user fees for the inspection of various import and export facilities and establishments. Prior to the August 2023 final rule, these fees were set forth in § 130.11 of the regulations. The current user fees as of October 1, 2012, and proposed adjusted fees are listed in table 12 below. These user fees do not apply to inspection activities covered in § 130.3. They also do not apply to biosecurity level two laboratories, which are charged the hourly rate, in § 130.4.

Table 12—User Fees for Inspecting and Approving Import/Export Facilities and Establishments
Service | Unit | Current fee | Proposed adjusted fee
Embryo collection center inspection and approval (all inspections required during the year for facility approval) | Per year | $604.00 | 767.00
Inspection for approval of biosecurity level three labs (all inspections related to approving the laboratory for handling one defined set of organisms or vectors) | Per inspection | 1,554.00 | 3262.00
Inspection for approval of slaughter establishment
Initial approval (all inspections) | Per year | 593.00 | 938.00
Renewal (all inspections) | Per year | 514.00 | 703.00
Inspection of approved establishments, warehouses, and facilities under 9 CFR parts 94 through 96
Approval (compliance agreement) (all inspections for first year of 3-year approval) | Per year | 633.00 | 747.00
Renewal (all inspections for second and third years of 3-year approval) | Per year | 366.00 | 513.00

User Fees for Foreign Animal Disease Diagnostics Laboratory (FADDL) Veterinary Diagnostics

APHIS charges user fees for diagnostic reagents provided by FADDL. Prior to the August 2023 final rule, these fees were set forth in § 130.14 of the regulations. The current fees as of October 1, 2006, and proposed adjusted fees are listed in table 13 below.

Table 13—User Fees for Foreign Animal Disease Diagnostics Laboratory (FADDL) Veterinary Diagnostics
Reagent | Unit | Current fee | Proposed adjusted fee
Bovine antiserum, any agent | 1 mL | $165.00 | $334.00
Caprine antiserum, any agent | 1 mL | 202.00 | 409.00
Cell culture antigen/microorganism | 1 mL | 111.00 | 225.00
Equine antiserum, any agent | 1 mL | 204.00 | 413.00
Fluorescent antibody conjugate | 1 mL | 179.00 | 363.00
Guinea pig antiserum, any agent | 1 mL | 200.00 | 405.00
Monoclonal antibody | 1 mL | 243.00 | 492.00
Ovine antiserum, any agent | 1 mL | 193.00 | 391.00
Porcine antiserum, any agent | 1 mL | 167.00 | 338.00
Rabbit antiserum, any agent | 1 mL | 196.00 | 397.00

APHIS charges user fees for veterinary diagnostic tests performed at FADDL. Prior to the August 2023 final rule, these fees were set forth in paragraph (b) of § 130.14. The current fees as of October 1, 2006, and proposed adjusted fees are listed in table 14 below.

Table 14—User Fees for Certain Veterinary Diagnostic Tests Performed at FADDL
Test | Unit | Current fee | Proposed adjusted fee
Agar gel immunodiffusion | Test | $33.00 | 67.00
Card | Test | 18.00 | 37.00
Complement fixation | Test | 40.00 | 81.00
Direct immunofluorescent antibody | Test | 25.00 | 51.00
Enzyme linked immunosorbent assay | Test | 29.00 | 60.00
Fluorescent antibody neutralization (classical swine fever) | Test | 215.00 | 436.00
Hemagglutination inhibition | Test | 63.00 | 128.00
Immunoperoxidase | Test | 32.00 | 65.00
Indirect fluorescent antibody | Test | 39.00 | 79.00
In-vitro safety | Test | 630.00 | 618.00
In-vivo safety | Test | 5,509.00 | 11,147.00
Latex agglutination | Test | 26.00 | 53.00
Tube agglutination | Test | 30.00 | 61.00
Virus isolation (oesophageal/pharyngeal) | Test | 199.00 | 403.00
Virus isolation in embryonated eggs | Test | 383.00 | 775.00
Virus isolation, other | Test | 171.00 | 178.00
Virus neutralization | Test | 58.00 | 118.00

APHIS charges user fees for other veterinary diagnostic tests performed at FADDL. Prior to the August 2023 final rule, these fees were set forth in paragraph (c) of § 130.14. The current fees as of October 1, 2006, and proposed adjusted fees are listed in table 15 below.

Table 15—User Fees for Other Veterinary Diagnostic Services Performed at FADDL
Veterinary diagnostic service | Unit | Current fee | Proposed adjusted fee
Bacterial isolation | Test | $123.00 | $249.00
Hourly user fee services ¹ | Hour | 492.00 | 996.00
Hourly user fee services—Quarter hour | Quarter hour | 123.00 | 249.00
Infected cells on chamber slides or plates | Slide | 53.00 | 108.00
Reference animal tissues for immunohistochemistry | Set | 187.00 | 379.00
Sterilization by gamma radiation | Can | 1,923.00 | 3,891.00
Training (school or technical assistance) | Per person per day | 1,006.00 | 2036.00
Virus titration | Test | 123.00 | 249.00
¹ For all veterinary diagnostic services for which there is no flat rate user fee, the hourly rate user fee will be calculated for the actual time required to provide the service.

User Fees for Veterinary Diagnostic Isolation and Identification Tests Performed at the National Veterinary Services Laboratories (NVSL) (Excluding FADDL) or Other Authorized Site

APHIS charges user fees for veterinary diagnostic isolation and identification tests performed at NVSL (excluding FADDL) or other authorized sites. Prior to the August 2023 final rule, these fees were set forth in § 130.15 of the regulations. The current fees as of October 1, 2011, and proposed fee rates are listed in table 16 below.

Table 16—User Fees for Veterinary Diagnostic Isolation and Identification Tests Performed at NVSL (Excluding FADDL) or Other Authorized Site
Test | Unit | Current fee | Proposed adjusted fee
Bacterial identification, automated | Isolate | $58.00 | $124.00
Bacterial identification, non-automated | Isolate | 98.00 | 199.00
Bacterial isolation | Sample | 40.00 | 81.00
Bacterial serotyping, all other | Isolate | 58.00 | 118.00
Bacterial serotyping, Pasteurella multocida | Isolate | 20.00 | 42.00
Bacterial serotyping, Salmonella | Isolate | 40.00 | 97.00
Bacterial toxin typing | Isolate | 131.00 | 404.00
Bacteriology requiring special characterization | Test | 101.00 | 215.00
DNA fingerprinting | Test | 64.00 | 430.00
DNA probe | Test | 89.00 | 181.00
Fluorescent antibody | Test | 20.00 | 42.00
Mycobacterium identification (biochemical) | Isolate | 125.00 | 253.00
Mycobacterium identification (gas chromatography) | Procedure | 105.00 | 213.00
Mycobacterium isolation, animal inoculations | Submission | 900.00 | 1,822.00
Mycobacterium isolation, all other | Submission | 165.00 | 334.00
Mycobacterium paratuberculosis isolation | Submission | 79.00 | 160.00
Phage typing, all other | Isolate | 46.00 | 94.00
Phage typing, Salmonella enteritidis | Isolate | 26.00 | 53.00

APHIS charges user fees for virology identification tests performed at NVSL (excluding FADDL) or other authorized sites. Prior to the August 2023 final rule, these fees were also set forth in § 130.15 of the regulations. The current fees as of October 1, 2011, and proposed fee rates are listed in table 17 below.

Table 17—User Fees for Virology Identification Tests Performed at NVSL (Excluding FADDL) or Other Authorized Site
Test | Unit | Current fee | Proposed adjusted fee
Fluorescent antibody tissue section | Test | $31.00 | $63.00
Virus isolation | Test | 52.00 | 108.00

User Fees for Veterinary Diagnostic Serology Tests Performed at NVSL or at Authorized Sites

APHIS charges user fees for veterinary diagnostic serology tests performed at NVSL or at authorized sites. Prior to the August 2023 final rule, these fees were set forth in § 130.16 of the regulations. The current fees as of October 1, 2011, and proposed fee rates are listed in table 18 below.

Table 18—User Fees for Veterinary Diagnostic Serology Tests Performed at NVSL or at Authorized Sites
Test | Unit | Current fee | Proposed adjusted fee
Brucella ring (BRT) | Test | $40.00 | $84.00
Brucella ring, heat inactivated (HIRT) | Test | 40.00 | 81.00
Brucella ring, serial (Serial BRT) | Test | 59.00 | 120.00
Buffered acidified plate antigen presumptive | Test | 8.00 | 17.00
Card | Test | 4.50 | 8.75
Complement fixation | Test | 18.00 | 52.00
Enzyme linked immunosorbent assay | Test | 18.00 | 49.00
Indirect fluorescent antibody | Test | 16.00 | 52.00
Microscopic agglutination—includes up to 5 serovars | Sample | 26.00 | 60.00
Microscopic agglutination—each serovar in excess of 5 serovars | Sample | 4.75 | 9.75
Particle concentration fluorescent immunoassay (PCFIA) | Test | 39.00 | 79.00
Plate | Test | 7.75 | 17.00
Rapid automated presumptive | Test | 7.25 | 15.00
Rivanol | Test | 7.75 | 16.00
Tube agglutination | Test | 7.75 | 17.00

APHIS charges user fees for virology serology tests performed at NVSL (excluding FADDL) or at authorized sites. Prior to the August 2023 final rule, these fees were also set forth in § 130.16 of the regulations. The current fees as of October 1, 2011, and proposed fee rates are listed in table 19 below.

Table 19—User Fees for Virology Serology Tests Performed at NVSL (Excluding FADDL) or at Authorized Sites
Test | Unit | Current fee | Proposed adjusted fee
Agar gel immunodiffusion | Test | $18.00 | $33.00
Complement fixation | Test | 18.00 | 52.00
Enzyme linked immunosorbent assay | Test | 18.00 | 49.00
Hemagglutination inhibition | Test | 16.00 | 52.00
Indirect fluorescent antibody | Test | 16.00 | 52.00
Latex agglutination | Test | 18.00 | 37.00
Peroxidase linked antibody | Test | 17.00 | 35.00
Plaque reduction neutralization | Test | 19.00 | 54.00
Rabies fluorescent antibody neutralization | Test | 50.00 | 102.00
Virus neutralization | Test | 14.00 | 52.00

User Fees for Other Veterinary Diagnostic Laboratory Tests Performed at NVSL or at Authorized Sites

APHIS charges user fees for veterinary diagnostics tests performed at the Pathobiology Laboratory at NVSL (excluding FADDL) or at authorized sites. Prior to the August 2023 final rule, these fees were set forth in § 130.17 of the regulations. The current fees as of October 1, 2011, and proposed fee rates are listed in table 20 below.

Table 20—User Fees for Veterinary Diagnostics Tests Performed at the Pathobiology Laboratory at NVSL (Excluding FADDL) or at Authorized Sites
Test | Unit | Current fee | Proposed adjusted fee
Aflatoxin quantitation | Test | $33.00 | $67.00
Aflatoxin screen | Test | 31.00 | 63.00
Agar gel immunodiffusion spp. identification | Test | 14.00 | 29.00
Antibiotic (bioautography) quantitation | Test | 72.00 | 146.00
Antibiotic (bioautography) screen | Test | 130.00 | 264.00
Antibiotic inhibition | Test | 72.00 | 146.00
Arsenic | Test | 19.00 | 39.00
Ergot alkaloid screen | Test | 72.00 | 146.00
Ergot alkaloid confirmation | Test | 94.00 | 191.00
Feed microscopy | Test | 72.00 | 146.00
Fumonisin only | Test | 40.00 | 81.00
Gossypol | Test | 107.00 | 217.00
Mercury | Test | 158.00 | 320.00
Metals screen | Test | 48.00 | 98.00
Metals single element confirmation | Test | 14.00 | 29.00
Mycotoxin: aflatoxin-liver | Test | 130.00 | 264.00
Mycotoxin screen | Test | 52.00 | 106.00
Nitrate/nitrite | Test | 72.00 | 146.00
Organic compound confirmation | Test | 96.00 | 195.00
Organic compound screen | Test | 165.00 | 334.00
Parasitology | Test | 31.00 | 60.00
Pesticide quantitation | Test | 144.00 | 292.00
Pesticide screen | Test | 66.00 | 134.00
pH | Test | 29.00 | 59.00
Plate cylinder | Test | 107.00 | 217.00
Selenium | Test | 48.00 | 98.00
Silicate/carbonate disinfectant | Test | 72.00 | 146.00
Temperature disks | Test | 142.00 | 288.00
Toxicant quantitation, other | Test | 120.00 | 243.00
Toxicant screen, other | Test | 36.00 | 73.00
Vomitoxin only | Test | 58.00 | 118.00
Water activity | Test | 36.00 | 73.00
Zearaleone quantitation | Test | 58.00 | 118.00
Zearaleone screen | Test | 31.00 | 63.00

User Fees for Veterinary Diagnostic Reagents Produced at NVSL or Other Authorized Sites

APHIS charges user fees for bacteriology reagents produced by the Diagnostic Bacteriology Laboratory at NVSL (excluding FADDL) or other authorized sites. Prior to the August 2023 final rule, these fees were set forth in § 130.18 of the regulations. The current fees as of October 1, 2011, and proposed fee rates are listed in table 21 below.

Table 21—User Fees for Veterinary Diagnostic Reagents Produced at NVSL or Other Authorized Sites
Reagent | Unit | Current fee | Proposed adjusted fee
Anaplasma card test antigen | 2 mL | $103.00 | $209.00
Anaplasma card test kit without antigen | Kit | 139.00 | 282.00
Anaplasma CF antigen | 2 mL | 47.00 | 96.00
Anaplasma stabilate | 4.5 mL | 188.00 | 404.00
Avian origin bacterial antiserums | 1 mL | 52.00 | 215.00
Bacterial agglutinating antigens other than brucella and salmonella pullorum | 5 mL | 59.00 | 140.00
Bacterial conjugates | 1 mL | 105.00 | 108.00
Bacterial ELISA antigens | 1 mL | 32.00 | 65.00
Bacterial or protozoal antiserums, all other | 1 mL | 66.00 | 146.00
Bacterial reagent culture ¹ | Culture | 79.00 | 242.00
Bacterial reference culture ² | Culture | 249.00 | 645.00
Bacteriophage reference culture | Culture | 188.00 | 381.00
Bovine serum factor | 1 mL | 19.00 | 39.00
Brucella abortus CF antigen | 60 mL | 165.00 | 350.00
Brucella agglutination antigens, all other | 60 mL | 165.00 | 334.00
Brucella buffered plate antigen | 60 mL | 188.00 | 404.00
Brucella canis tube antigen | 25 mL | 124.00 | 264.00
Brucella card test antigen (packaged) | Package | 98.00 | 199.00
Brucella card test kit without antigen | Kit | 119.00 | $248.00
Brucella cells | Gram | 20.00 | 41.00
Brucella cells, dried | Pellet | 6.25 | 13.00
Brucella ring test antigen | 60 mL | 263.00 | 527.00
Brucella rivanol solution | 60 mL | 32.00 | 65.00
Dourine CF antigen | 1 mL | 97.00 | 597.00
Dourine stabilate | 4.5 mL | 116.00 | 235.00
Equine and bovine origin babesia species antiserums | 1 mL | 139.00 | 334.00
Equine negative control CF antigen | 1 mL | 293.00 | 593.00
Flazo-orange | 3 mL | 14.00 | 29.00
Glanders CF antigen | 1 mL | 84.00 | 170.00
Hemoparasitic disease CF antigens, all other | 1 mL | 590.00 | 1,194.00
Leptospira transport medium | 10 mL | 4.75 | 9.75
Monoclonal antibody | 1 mL | 103.00 | 209.00
Mycobacterium spp. old tuberculin | 1 mL | 26.00 | 53.00
Mycobacterium spp. PPD | 1 mL | 20.00 | 41.00
Mycoplasma hemagglutination antigens | 5 mL | 197.00 | 430.00
Negative control serums | 1 mL | 20.00 | 43.00
Rabbit origin bacterial antiserum | 1 mL | 56.00 | 114.00
Salmonella pullorum microagglutination antigen | 5 mL | 17.00 | 35.00
Stabilates, all other | 4.5 mL | 730.00 | 1,478.00
¹ A reagent culture is a bacterial culture that has been subcultured one or more times after being tested for purity and identity. It is intended for use as a reagent with a diagnostic test such as the leptospiral agglutination test.
² A reference culture is a bacterial culture that has been thoroughly tested for purity and identity. It should be suitable as a master seed for future cultures.

APHIS charges user fees for virology reagents produced by the Diagnostic Virology Laboratory at NVSL (excluding FADDL) or at authorized sites. Prior to the August 2023 final rule, these fees were set forth in § 130.18 of the regulations. The current user fees as of October 1, 2011, and proposed fee rates are listed in table 22 below.

Table 22—User Fees for Virology Reagents
Reagent | Unit | Current fee | Proposed adjusted fee
Antigen, except avian influenza and chlamydia psittaci antigens, any | 2 mL | $67.00 | $140.00
Avian antiserum except avian influenza antiserum, any | 2 mL | 53.00 | 135.00
Avian influenza antigen, any | 2 mL | 36.00 | 76.00
Avian influenza antiserum, any | 6 mL | 113.00 | 242.00
Bovine or ovine serum, any | 2 mL | 139.00 | 280.00
Cell culture | Flask | 165.00 | 683.00
Chlamydia psittaci spp. of origin monoclonal antibody panel | Panel | 101.00 | 205.00
Conjugate, any | 1 ml | 80.00 | 167.00
Diluted positive control serum, any | 2 mL | 27.00 | 57.00
Equine antiserum, any | 2 mL | 49.00 | 103.00
Monoclonal antibody | 1 mL | 110.00 | 242.00
Other spp. antiserum, any | 1 mL | 53.00 | 108.00
Porcine antiserum, any | 2 mL | 115.00 | 242.00
Porcine tissue sets | Tissue set | 161.00 | 326.00
Positive control tissues, all | 2 cm² section | 66.00 | 134.00
Rabbit origin antiserum | 1 mL | 56.00 | 114.00
Reference virus, any | 0.6 mL | 197.00 | 645.00
Viruses (except reference viruses), chlamydia psittaci agent or chlamydia psittaci antigen, any | 0.6 mL | 33.00 | 70.00

User Fees for Other Veterinary Diagnostic Services or Materials Provided at NVSL (Excluding FADDL)

APHIS charges user fees for other veterinary diagnostic services or materials available from NVSL (excluding FADDL). Prior to the August 2023 final rule, these fees were set forth in § 130.19 of the regulations. The current fees as of October 1, 2011, and proposed fee rates are listed in table 23 below.

Table 23—User Fees for Other Veterinary Diagnostic Services or Materials Provided at NVSL (Excluding FADDL)
Service | Unit | Current fee | Proposed adjusted fee
Antimicrobial susceptibility test | Isolate | $114.00 | $242.00
Avian safety test | Test | 4,180.00 | 8,636.00
Check tests, culture | Kit ¹ | 189.00 | 774.00
Check tests, serology | Kit ¹ | 394.00 | 774.00
Fetal bovine serum safety test | Verification | 1,160.00 | 2,419.00
Hourly user fees ²
Hour | Hour | 112.00 | 143.00
Quarter hour | Quarter Hour | 28.00 | 36.00
Minimum |  | 33.00 | 43.00
Manual, brucellosis culture | 1 copy | 125.00 | 253.00
Manual, tuberculosis Culture (English or Spanish) | 1 copy | 188.00 | 381.00
Manual, Veterinary mycology | 1 copy | 188.00 | 381.00
Manuals or standard operating procedure (SOP), all other | 1 copy | 37.00 | 75.00
Manuals or SOP, per page | 1 page | 2.75 | 5.75
Training (school or technical assistance) | Per person per day | 362.00 | 753.00
¹ Any reagents required for the check test will be charged separately.
² For veterinary diagnostic services for which there is no flat user fee the Hourly rate user fee will be calculated for the actual time required to provide the service.

User Fees for Endorsing Export Certificates

APHIS charges user fees for the services provided for the review and endorsement of export documents or health certificates that do not require the verification of tests or vaccinations (other than rabies vaccination). Prior to the August 2023 final rule, these fees were set forth in § 130.20 of the regulations. The current fees as of October 1, 2012, and proposed fee rates are listed in table 24 below. The user fees apply to each export document or health certificate endorsed for the following types of animals, birds, or animal products, regardless of the number of animals, birds, or animal products covered by the certificate.

Table 24—User Fees for Endorsing Export Health Certificates
Certificate categories | Current fee | Proposed adjusted fee
Animal and nonanimal products | $51.00 | $101.00
Hatching eggs | 48.00 | 113.00
Poultry, including slaughter poultry | 48.00 | 113.00
Ruminants, except slaughter ruminants moving to Canada or Mexico | 52.00 | 67.00
Slaughter animals (except poultry but including ruminants) moving to Canada or Mexico | 56.00 | 70.00
Other endorsements or certifications | 38.00 | 101.00

APHIS charges user fees for the endorsement of export health certificates that require the verification of tests or vaccinations. Prior to the August 2023 final rule, these fees were set forth in § 130.20 of the regulations. The current fees as of October 1, 2012, and proposed fee rates are listed in table 25 below. The user fees apply to each export health certificate endorsed for animals and birds, depending on the number of animals or birds covered by the certificate and the number of tests or vaccinations required. However, as noted in § 130.3 there will be a maximum user fee of 12 times the hourly rate user fee.

Table 25—User Fees for the Endorsement of Export Health Certificates That Require the Verification of Tests or Vaccinations
Number ¹ of tests or vaccinations and number of animals or birds on the certificate | Current fee | Proposed adjusted fee
1-2 tests or vaccinations
Nonslaughter horses to Canada, first horse | $60.00 | $100.00
Nonslaughter horses to Canada, each additional horse | 7.00 | 58.00
Other animals or birds, first animal | 121.00 | 160.00
Other animals or birds, each additional animal | 7.00 | 10.00
3-6 tests or vaccinations
First animal | 150.00 | 206.00
Each additional animal | 12.00 | 18.00
7 or more tests or vaccinations
First animal | 173.00 | 275.00
Each additional animal | 14.00 | 21.00
¹ Rabies vaccinations are not included in this number.

Authority: 5 U.S.C. 5542; 7 U.S.C. 1622 and 8301-8317; 21 U.S.C. 136 and 136a; 31 U.S.C. 3701, 3716, 3717, 3719, and 3720A; 7 CFR 2.22, 2.80, and 371.4.

Done in Washington, DC, this 1st day of November 2024.
Michael Watson,
Administrator, Animal and Plant Health Inspection Service.

[FR Doc. 2024-25826 Filed 11-7-24; 8:45 am]

BILLING CODE 3410-34-P